DEPARTMENT OF HEALTH AND HUMAN SERVICES

Centers for Medicare & Medicaid Services

[Document Identifier: CMS-10398 (#43)]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by October 14, 2015:

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number _____, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Demonstration Programs to Improve Community Mental Health Services; Use: The Centers for Medicare and Medicaid Services (CMS), the Substance Abuse and Mental Health Services Administration (SAMHSA), and the Assistant Secretary of Planning and Evaluation (ASPE) intend to collect information from states selected to participate in the Section 223 Demonstration Programs to Improve Community Mental Health Services. To be completed annually by each certified community behavioral health clinic (CCBHC), the information collection's cost report would be used to determine each CCBHC's prospective payment system (PPS) rate, effective January 1, 2017, for the payment of demonstration services. The cost report would facilitate rate determinations for both PPS-1 and PPS-2 (the two methodologies allowed by CMS and specified in CCBHC PPS guidance previously issued by CMS). The cost report would assist states in meeting the requirement for annual reporting of CCBHC cost to CMS in a manner that is consistent with the guidance's cost reporting and documentation requirements.

Information collections approved under this package's control number are reviewed/approved under OMB's generic process. As such, they are usually not subject to formal public review and comment. In this instance, however, CMS is interested in receiving public input and is posting the cost report, cost report instructions, and Supporting Statement on its Web site for public review (see ADDRESSES and DATES).

Form Number: CMS-10398 (#43) (OMB control number 0938-1148); Frequency: Yearly; Affected Public: Private sector (not-for-profits institutions) and State, Local, or Tribal Governments; Number of Respondents: 24; Total Annual Responses: 24; Total Annual Hours: 1,832. (For policy questions regarding this collection contact Mary Cieslicki at 410-786-4576).

Dated: September 9, 2015.
William N. Parham, III,
Director, Paperwork Reduction Staff, Office of Strategic Operations and Regulatory Affairs.

[FR Doc. 2015-23053 Filed 9-11-15; 8:45 am]

BILLING CODE 4120-01-P